DEPARTMENT OF AGRICULTURE

Rural Housing Service

Notice of Funds Availability (NOFA) for Native Americans To Develop Essential Community Facilities

AGENCY: Rural Housing Service, USDA.

ACTION: Notice.

SUMMARY: The Rural Housing Service announces the availability of $4 million in National competitive grant funds for the Community Facilities grant program for projects benefiting federally recognized Native American tribes, with an Agency emphasis on tribal colleges, to develop essential community facilities in rural communities.

DATES: Applicants and their governing boards should meet with Agency officials before a preapplication is filed to discuss eligibility requirements and processing procedures. Documentation submitted along with a preapplication will vary depending on the nature, scope, and complexity of the project and the various stages of application and project development. Applicants will compete for funds during two windows of opportunity.

Applications must be processed by the Rural Development State Office and forwarded to the Rural Housing Service, Washington, DC, by May 11, 2001 for the first window and by August 17, 2001, for the second.

ADDRESSES: Entities wishing to apply for assistance are encouraged to contact their local USDA Rural Development office for guidance on the intake and processing of preapplications. A listing of Rural Development State offices and contact persons is included in this notice.

FOR FURTHER INFORMATION CONTACT: Andrea Barnett, Community Programs, RHS, USDA, STOP 0787, 1400 Independence Ave. SW., Washington, DC 20250-0787, Telephone (202) 720-1490, Facsimile (202) 690-0471, E-mail: abarnett@rdmail.rural.usda.gov. You may also obtain information from the Community Facilities program website: www.rurdev.usda.gov.

SUPPLEMENTARY INFORMATION:

Paperwork Reduction Act

The reporting requirements contained in this announcement have received clearance by the Office of Management and Budget (OMB) under Control Number 0575-0173.

Authorizing Legislation and Regulations

The program is authorized under section 306(a) of the Consolidated Farm and Rural Development Act. Funding was made possible by the Agriculture, Rural Development, Food and Drug Administration, and Related Agencies Appropriations Act, 2001 (106 Pub. L. 387). Program administration, eligibility, processing, and servicing requirements, which govern the Community Facilities grant program, may be found in 7 CFR part 3570, subpart B.

Background

Under the Rural Community Advancement Program (RCAP) for FY 2001, Congress authorized $24 million set aside for loans and grants to benefit federally recognized Native American tribes. The Rural Housing Service decided that $4 million of the set aside should be used for Community Facilities grants. Grants are targeted to communities with the smallest populations and lowest incomes. Eligible facilities include, but are not limited to, schools, classrooms, educational related equipment, libraries, cultural museums, and dormitories.

Eligibility Requirements

Eligibility requirements are found in 7 CFR part 3570, subpart B. The provisions of 7 CFR parts 3015, 3016, and 3019, as applicable, are included as requirements of these grants.

Allocation of Funds

All funds will remain in the National office reserve for funding consideration for FY 2001. Project selections will be on a national competitive basis and will be disbursed during two windows of opportunity. Applications must be processed by the Rural Development State office and forwarded to the Rural Housing Service, Washington, DC, by May 11, 2001, for the first window and by August 17, 2001, for the second. Each application will be limited to $135,000.

Intake and Processing of Grant Proposals

USDA Rural Development's designated field or State office processes the intake of all preapplications and applications.

Priority Points

The Rural Housing Service is aware of a recent survey of tribal colleges that documented more than $200 million of construction, renovation, and repair needs. The Rural Housing Service has decided to provide additional priority points to applications from tribal colleges that meet these needs. Each application received from a tribal college will be awarded an additional 20 points from Community Programs.

Selection Process

Once a determination has been made that an applicant is eligible, the preapplication is evaluated competitively and points awarded as specified in the project selection priorities contained in 7 CFR part 3570, subpart B. The State Director or designee will forward the request to the National office to compete for funding consideration. Projects will then be rated, ranked, and selections made in order of priority. Each proposal will be judged on its own merit. Projects not selected for funding consideration will remain eligible to compete for the next round of funding selections.

Final Approval and Funding Process

Final approval is subject to the availability of funds; the submission by the applicant of a formal, complete application and related materials that meet the program requirements and responsibilities of the grantee contained in Title 7 CFR 3570, subpart B; the letter of conditions; and the grant agreement.

Those preapplications that do not have sufficient priority necessary to receive funding consideration for FY 2001 will be notified, in writing, by the State or designated field office.

Local Contact Numbers

A listing of Rural Development State Offices, their addresses, telephone numbers, and a contact person follows:

Note: Telephone numbers listed are not toll-free.

Alabama State Office Suite 601, Sterling Centre 4121 Carmichael Road, Montgomery, AL 36106-3683, 334-279-3400, Chris Harmon

Alaska State Office, 800 W. Evergreen, Suite 201, Palmer, AK 99645-6539 907-761-7705, Merlaine Kruse

Arizona State Office, Phoenix Corporate Center 3003 North Central Avenue, Suite 900, Phoenix, AZ 85012-2906, 602-280-8700, Leonard Gradillas

Arkansas State Office, 700 W. Capitol Avenue, Room 3416, Little Rock, AR 72201-3225, 501-301-3200, Jesse G. Sharp

California State Office, 430 G Street, # 4169, Davis, CA 95616-4169, 530-792-5800, Robert Longman

Colorado State Office, 655 Parfet Street, Room E100, Lakewood, CO 80215, 720-544-2903, Leroy Cruz

Delaware State Office, 4607 S. DuPont Highway, P.O. Box 400, Camden, DE 19934-9998, 302-697-4300, James E. Waters

Florida State Office,* 4440 N.W. 25th Place, P.O. Box 147010, Gainesville, FL 32614-7010, 352-338-3400, Glenn E. Walden

* The Florida State Office also administers the Virgin Islands program.

Georgia State Office, Stephens Federal Building, 355 E. Hancock Avenue, Athens, GA 30601-2768, 706-546-2162, Jerry Thomas

Hawaii State Office, Room 311, Federal Building 154 Waianuenue Avenue, Hilo, HI 96720, 808-933-8380, Thao Khamoui

Idaho State Office, 9173 W. Barnes Drive, Suite A1, Boise, ID 83709, 208-378-5600, Dan Fraser

Illinois State Office, Illini Plaza, Suite 103, 1817 South Neil Street, Champaign, IL 61820, 217-398-5235, Gerald Townsend

Indiana State Office, 5975 Lakeside Boulevard, Indianapolis, IN 46278, 317-290-3100, Gregg Delp

Iowa State Office, 873 Federal Building, 210 Walnut Street, Des Moines, IA 50309, 515-284-4663, Dorman A. Otte

Kansas State Office, 1200 SW Executive Drive, P.O. Box 4653, Topeka, KS 66604, 785-271-2700, Gary Smith

Kentucky State Office, Suite 200, 771 Corporate Drive, Lexington, KY 40503, 859-224-7300, Vernon C. Brown

Louisiana State Office, 3727 Government Street, Alexandria, LA 71302, 318-473-7920, Danny Magee

Maine State Office, 967 Illinois Avenue, Suite 4, P.O. Box 405, Bangor, ME 04402-0405, 207-990-9106, Alan Daigle

Massachusetts State Office,* 451 West Street, Amherst, MA 01002, 413-253-4300, Daniel Beaudette

* The Massachusetts State Office, also administers the Rhode Island and Connecticut programs.

Michigan State Office, 3001 Coolidge Road, Suite 200, East Lansing, MI 48823, 517-324-5100, Philip Wolak

Minnesota State Office, 410 AgriBank Building, 375 Jackson Street, St. Paul, MN 55101-1853, 651-602-7800, James Maras

Mississippi State Office, Federal Building, Suite 831, 100 W. Capitol Street, Jackson, MS 39269, 601-965-4316, Darnella Smith-Murray

Missouri State Office, 601 Business Loop 70 West, Parkade Center, Suite 235, Columbia, MO 65203, 573-876-0976, Randall Griffith

Montana State Office, Unit 1, Suite B, P.O. Box 850, 900 Technology Boulevard, Bozeman, MT 59715, 406-585-2580, Mary Lou Affleck

Nebraska State Office, Federal Building, Room 152, 100 Centennial Mall N, Lincoln, NE 68508, 402-437-5551, Denise Brosius-Meeks

Nevada State Office, 1390 South Curry Street, Carson City, NV 89703-9910, 775-887-1222, Mike E. Holm

New Hampshire State Office, 10 Ferry Street, Concord Center, P.O. Box 317, Concord, New Hampshire 03301-5004, 603-223-6035, William Konrad

New Jersey State Office, Tarnsfield Plaza, Suite 22, 790 WoodLane Road, Mt. Holly, NJ 08060, 609-265-3600, Michael P. Kelsey

New Mexico State Office, 6200 Jefferson Street, NE, Room 255, Albuquerque, NM 87109, 505-761-4950, Clyde Hudson

New York State Office, The Galleries of Syracuse, 441 S. Salina Street, Suite 357, Syracuse, NY 13202-2541, 315-477-6400, Gail Giannotta

North Carolina State Office, 4405 Bland Road, Suite 260, Raleigh, NC 27609, 919-873-2000, Phyllis Godbold

North Dakota State Office, Federal Building, Room 208, 220 East Rosser, P.O. Box 1737, Bismarck, ND 58502-1737, 701-530-2037, Don Warren

Ohio State Office, Federal Building, Room 507, 200 North High Street, Columbus, OH 43215-2418, 614-255-2400, David Douglas

Oklahoma State Office, 100 USDA, Suite 108, Stillwater, OK 74074-2654, 405-742-1000, Rock W. Davis

Oregon State Office, 101 SW Main, Suite 1410, Portland, OR 97204-3222, 503-414-3300, Bill Daniels

Pennsylvania State Office, One Credit Union Place, Suite 330, Harrisburg, PA 17110-2996, 717-237-2299, Gary Rothrock

Puerto Rico State Office, IBM Building, Suite 601, 654 Munos Rivera Avenue, Hato Rey, PR 00918-6106, 787-766-5095, Pedro Gomez

South Carolina State Office, Strom Thurmond Federal Bldg., 1835 Assembly Street, Room 1007, Columbia, SC 29201, 803-765-5163, Larry Floyd

South Dakota State Office, Federal Building, Room 210, 200 Fourth Street SW., Huron, SD 57350, 605-352-1100, Dwight Wullweber

Tennessee State Office, Suite 300, 3322 West End Avenue, Nashville, TN 37203-1084, 615-783-1300, Keith Head

Texas State Office, Federal Building, Suite 102, 101 South Main, Temple, TX 76501, 254-742-9700, Mike Meehan

Utah State Office, Wallace F. Bennett, Federal Building, 125 S. State Street, Rm. 4311, P.O. Box 11350, Salt Lake City, UT 84147-0350, 801-524-4320, Jack Cox

Vermont State Office, City Center, 3rd Floor, 89 Main Street, Montpelier, VT 05602, 802-828-6000, Rhonda Shippee

Virginia State Office, Culpeper Building, Suite 238, 1606 Santa Rosa Road, Richmond, VA 23229, 804-287-1550, Carrie Schmidt

Washington State Office, 1835 Black Lake Blvd. SW., Suite B, Olympia, WA 98512-5715, 360-704-7740, Jack Gleason

West Virginia State Office, Federal Building, 75 High Street, Room 320, Morgantown, WV 26505-7500, 304-284-4860, Dianne Crysler

Wisconsin State Office, 4949 Kirschling Court, Stevens Point, WI 54481, 715-345-7600, Mark Brodziski

Wyoming State Office, 100 East B, Federal Building, Room 1005, P.O. Box 820, Casper, WY 82601, 307-261-6300, John Cochran

Dated: April 3, 2001.
James C. Alsop,
Acting Administrator, Rural Housing Service.

[FR Doc. 01-8769 Filed 4-9-01; 8:45 am]

BILLING CODE 3410-XV-U